DEPARTMENT OF ENERGY

Federal Energy Regulatory Commission

Combined Notice of Filings

Take notice that the Commission has received the following Natural Gas Pipeline Rate and Refund Report filings:

Filings Instituting Proceedings

Docket Numbers: RP12-961-000

Applicants: East Tennessee Natural Gas, LLC

Description: Imbalance Provision Cleanup to be effective 10/1/2012

Filed Date: 8/28/12

Accession Number: 20120828-5041

Comments Due: 5 p.m. ET 9/10/12

Docket Numbers: RP12-962-000

Applicants: Cheyenne Plains Gas Pipeline Company, L.

Description: Table of Contents Update to be effective 9/28/2012

Filed Date: 8/28/12

Accession Number: 20120828-5101

Comments Due: 5 p.m. ET 9/10/12

Docket Numbers: RP12-963-000

Applicants: Equitrans, L.P.

Description: Negotiated Rate Service Agreement—PDC Mountaineer, LLC to be effective 9/1/2012

Filed Date: 8/28/12

Accession Number: 20120828-5106

Comments Due: 5 p.m. ET 9/10/12

Docket Numbers: RP12-964-000

Applicants: Equitrans, L.P.

Description: Neg Rate Service Agreement—PDCM Amended Exh A to be effective 9/1/2012

Filed Date: 8/28/12

Accession Number: 20120828-5107

Comments Due: 5 p.m. ET 9/10/12

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 29, 2012.
Nathaniel J. Davis, Sr.,
Deputy Secretary.

[FR Doc. 2012-21964 Filed 9-5-12; 8:45 am]

BILLING CODE 6717-01-P